NATIONAL CREDIT UNION ADMINISTRATION

Notice of Change in Subject of Meeting; Sunshine Act Meeting

The National Credit Union Administration Board determined that its business required the deletion of the following item from the previously announced closed meeting (Federal Register, Vol. 65, No. 201, page 61364-61365, October 17, 2000) scheduled for Thursday, October 20, 2000.

2. One (1) Personnel Matter. Closed pursuant to exemptions (2) and (6).

The Board voted unanimously that agency business required that this item be removed from the closed agenda. The item has been resolved by notation vote. Earlier announcement of this change was not possible.

The previously announced items were:

1. Budget Reprogramming. Closed pursuant to exemptions (4) and (6).

2. Two (2) Personnel Matters. Closed pursuant to exemptions (2) and (6).

FOR FURTHER INFORMATION CONTACT: Becky Baker, Secretary of the Board, Telephone (703) 518-6304.

Becky Baker,
Secretary of the Board.

[FR Doc. 00-27587 Filed 10-23-00; 2:11 pm]

BILLING CODE 7535-01-M